DEPARTMENT OF DEFENSE

Department of the Army; Corps of Engineers

Coastal Engineering Research Board (CERB)

AGENCY: Department of Army, DoD.

ACTION: Notice of meeting.

SUMMARY: In accordance with Section 10(a)(2) of the Federal Advisory Committee Act (Pub. L. 92-463), announcement is made of the following committee meeting:

Name of Committee: Coastal Engineering Research Board (CERB).

Date of Meeting: November 3-4, 2004.

Place: Hilton Washington DC/Silver Spring, 8727 Colesvile Road, Silver Spring, MD, 20910.

Time: 6:30 p.m to 8:30 p.m. (November 3, 2004); 8 a.m to 5 p.m. (November 3, 2004); 8 a.m. to 4:30 p.m. (November 4, 2004).

FOR FURTHER INFORMATION CONTACT: Inquiries and notice of intent to attend the meeting may be addressed to Colonel James R. Rowan, Executive Secretary, Commander, U.S. Army Engineer Research and Development Center, Waterways Experiment Station, 3909 Halls Ferry Road, Vicksburg, MS 39180-6199.

SUPPLEMENTARY INFORMATION: Proposed Agenda: The theme of the meeting is “Ocean Agency Collaboration.” On Tuesday evening, November 2, there will be an icebreaker. On Wednesday morning, November 3, there will be a presentation on the “U.S. Commission on Ocean Policy Report” and a panel to discuss “Possible Strategies for Implementing Ocean Policy Report Recommendations.” The afternoon session will include a presentation entitled “Interagency Collaboration as Part of the Corps Coastal Watershed Activities” and a panel to discuss “The Integration of Ocean/Coastal Watershed Perspectives Approach.” On Thursday morning, November 4, there will be a presentation entitled “Corps' Involvement in Interagency Shoreline Mapping and the Integrated Ocean Observing System” and a panel to discuss “Interagency Science and Technology Collaboration.” During the afternoon, the members of the Board will meet in an Executive Session.

These meetings are open to the public; participation by the public is scheduled for 4 p.m. on November 3.

The entire meeting is open to the public but since seating capacity of the meeting room is limited, advance notice of intent to attend, although not required, is requested in order to assure adequate arrangements. Oral participation by public attendees is encouraged during the time scheduled on the agenda; written statements may be submitted prior to the meeting or up to 30 days after the meeting.

James R. Rowan,
Colonel, Corps of Engineers, Executive Secretary.

[FR Doc. 04-23229 Filed 10-15-04; 8:45 am]

BILLING CODE 3710-61-M